DEPARTMENT OF ENERGY

Federal Energy Regulatory Commission

Combined Notice of Filings

Take notice that the Commission has received the following Natural Gas Pipeline Rate and Refund Report filings:

Filings Instituting Proceedings

Docket Numbers: CP14-227-000

Applicants: Texas Eastern Transmission, LP and Enable Gas Transmission, LLC

Description: Joint Abbreviated Application of Texas Eastern Transmission, LP and Enable Gas Transmission, LLC for Authorization to Abandon Leased Capacity and to Reacquire the Capacity

Filed Date: 4/23/14

Accession Number: 20140423-5218

Comments Due: 5 p.m. ET 5/7/14

Docket Numbers: RP14-769-000

Applicants: Trailblazer Pipeline Company LLC

Description: Neg Rate 2014-04-25 Green Plains to be effective 5/1/2014

Filed Date: 4/25/14

Accession Number: 20140425-5123

Comments Due: 5 p.m. ET 5/7/14

Docket Numbers: RP14-770-000

Applicants: Discovery Gas Transmission LLC

Description: Discovery Gas Transmission LLC annual cash-out imbalance report in accordance with Section 9.9 of the General Terms and Conditions

Filed Date: 4/25/14

Accession Number: 20140425-5167

Comments Due: 5 p.m. ET 5/7/14

Docket Numbers: RP14-771-000

Applicants: National Fuel Gas Supply Corporation

Description: Market Pooling 2014 to be effective 6/1/2014

Filed Date: 4/25/14

Accession Number: 20140425-5228

Comments Due: 5 p.m. ET 5/7/14

Docket Numbers: RP14-772-000

Applicants: Millennium Pipeline Company, LLC

Description: Negotiated Rate Service Agmts—SW to be effective 5/1/2014

Filed Date: 4/25/14

Accession Number: 20140425-5275

Comments Due: 5 p.m. ET 5/7/14

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-698-001

Applicants: Millennium Pipeline Company, LLC

Description: Negotiated Rate Service Agmts—ConEd Amendment to be effective 5/1/2014

Filed Date: 4/25/14

Accession Number: 20140425-5119

Comments Due: 5 p.m. ET 5/7/14

Docket Numbers: RP14-742-001

Applicants: Millennium Pipeline Company, LLC

Description: Negotiated & Non-Conf Agreements—Conversion of BH to FT Amendment to be effective 5/1/2014

Filed Date: 4/25/14

Accession Number: 20140425-5124

Comments Due: 5 p.m. ET 5/7/14

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2014.
Nathaniel J. Davis, Sr.,
Deputy Secretary.

[FR Doc. 2014-10090 Filed 5-1-14; 8:45 am]

BILLING CODE 6717-01-P